ENVIRONMENTAL PROTECTION AGENCY

[ER-FRL-9058-5]

Environmental Impact Statements; Notice of Availability

Responsible Agency: Office of Federal Activities, General Information 202-564-5632 or https://www.epa.gov/nepa.

Weekly receipt of Environmental Impact Statements (EIS)

Filed September 13, 2021 10 a.m. EST Through September 20, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210141, Draft, DOD, ID, Construction and Demonstration of a Prototype Mobile Microreactor, Comment Period Ends: 11/09/2021, Contact: Jeff Waksman 703-812-1980.

EIS No. 20210142, Draft, USFWS, WA, Thurston County Habitat Conservation Plan, Thurston County, Washington, Comment Period Ends: 11/08/2021, Contact: Curtis Tanner 360-753-9440.

EIS No. 20210143, Final, FHWA, IN, I-69 Ohio River Crossing Project, Contact: Michelle Allen 317-226-7344.

Under 23 U.S.C. 139(n)(2), FHWA has issued a single document that consists of a final environmental impact statement and record of decision. Therefore, the 30-day wait/review period under NEPA does not apply to this action.

EIS No. 20210144, Draft, USCG, Other, Waterways Commerce Cutter Acquisition, Comment Period Ends: 11/08/2021, Contact: LCDR Sarah Krolman 202-475-3104.

EIS No. 20210145, Final, USACE, MT, Fort Peck Dam Test Release, Review Period Ends: 10/25/2021, Contact: Aaron Quinn 402-995-2669.

Amended Notice

EIS No. 20200239, Draft, MARAD, USCG, TX, Texas Gulflink Deepwater Port License Application, Comment Period Ends: 11/08/2021, Contact: Brad McKitrick 202-372-1443.

Revision to FR Notice Published 02/12/2021; USCG and MARAD have reopened the comment period to end on 11/08/2021.

EIS No. 20210092, Draft, USAF, ID, Airspace Optimization for Readiness for Mountain Home Air Force Base, Comment Period Ends: 10/25/2021, Contact: Robin Divine 210-925-2730.

Revision to FR Notice Published 07/09/2021; Extending the Comment Period from 09/22/2021 to 10/25/2021.

EIS No. 20210118, Draft Supplement, NHTSA, REG, Model Year 2024-2026 Corporate Average Fuel Economy Standards, Comment Period Ends: 10/26/2021, Contact: Vinay Nagabhushana 202-366-1452.

Revision to FR Notice Published 08/20/2021; Extending the Comment Period from 10/04/2021 to 10/26/2021.

Dated: September 20, 2021.
Cindy S. Barger,
Director, NEPA Compliance Division, Office of Federal Activities.

[FR Doc. 2021-20742 Filed 9-23-21; 8:45 am]

BILLING CODE 6560-50-P